DEPARTMENT OF HEALTH AND HUMAN SERVICES

Centers for Disease Control and Prevention

[Program Announcement 01052]

Community Health Programs; Notice of Availability of Funds

A. Purpose

The Centers for Disease Control and Prevention (CDC) announces the availability of fiscal year (FY) 2001 funds for grant programs for community health promotion. This announcement is related to the focus areas of Arthritis, Osteoporosis, Chronic Back Conditions, Cancer, Chronic Kidney Disease, Diabetes, Educational and Community-Based Programs, Heart Disease and Stroke, Nutrition and Overweight, Physical Activity and Fitness, and Tobacco Use.

The purpose of the program is to improve and to promote health among specified populations and to reduce morbidity and disability associated with specified chronic diseases.

B. Eligible Applicants

Assistance will be provided only to the organizations listed below. No other applications are solicited. The Conference Report H.R. 4577, Consolidated Appropriations Act, 2001, specified these funds for the organizations listed below.

1. Roger Williams Medical Center Healthlink program in Providence, Rhode Island, to develop and implement a comprehensive health promotion initiative for senior retirees. ($666,303)

2. Sisters of Charity Health Care System and Staten Island University Hospital's Heart Center to develop telecommunication teaching tools to enhance training. ($43,784)

3. Michael DeBakey Institute for Comprehensive Cardiovascular Science to continue the development of information on the viability of artificial hearts. ($475,931)

4. Kettering Medical Center to support the Medical Center Healthy Hearts 2001 Initiative. ($866,591)

5. Jackson State University, Office of Research and Development to establish an epidemiological research institute. ($951,478)

6. Baltimore City Health Department, Maryland, to establish a Center for Chronic Diseases. ($515,831)

7. University of Texas, Southwestern Medical Center, Dallas, to establish a National Training Program for the Comprehensive Care of Individuals with Multiple Sclerosis. ($839,506)

C. Availability of Funds

Approximately $4,359,424 is available in FY 2001 to fund seven awards as described in paragraph “B” above. It is expected that the awards will begin on or about July 15, 2001, and will be made for a 12-month budget period within a one year project period. Funding estimates may change.

D. Where To Obtain Additional Information

To obtain additional information, contact: Robert Hancock, Grants Management Specialist, Grants Management Branch, Procurement and Grants Office, Announcement 01052, Centers for Disease Control and Prevention (CDC), 2920 Brandywine Road, Room 3000, Atlanta, GA 30341-4146, Telephone: (770) 488-2746, Email Address: rhancock@cdc.gov.

For overall program technical assistance, contact: Michael Waller, Division of Adult and Community Health, National Center for Chronic Disease Prevention and Health Promotion (NCCDPHP), 4770 Buford Highway, NE., MS K-45, Atlanta, Georgia 30341, Telephone: (770) 488-5264, E-Mail Address: mwaller@cdc.gov.

Technical assistance for Roger Williams Medical Center will be provided by: David Elswick, Division of Adult and Community Health, National Center for Chronic Disease Prevention and Health Promotion (NCCDPHP), 4770 Buford Highway, NE, MS K-30, Atlanta, Georgia 30341, Telephone: (770) 488-5506, E-Mail Address: delswick@cdc.gov.

Technical assistance for Sisters of Charity Health Care System will be provided by: Mags Malone, Division of Adult and Community Health, National Center for Chronic Disease Prevention and Health Promotion (NCCDPHP), 4770 Buford Highway, NE, MS K-47, Atlanta, Georgia 30341, Telephone: (770) 488-8055, E-Mail Address: mmalone@cdc.gov.

Technical assistance for Michael DeBakey Institute for Comprehensive Cardiovascular Science will be provided by: Mags Malone, Division of Adult and Community Health, National Center for Chronic Disease Prevention and Health Promotion (NCCDPHP), 4770 Buford Highway, NE, MS K-47, Atlanta, Georgia 30341, Telephone: (770) 488-8055, E-Mail Address: mmalone@cdc.gov.

Technical assistance for the Kettering Medical Center Healthy Hearts 2001 Initiative will be provided by: Mags Malone, Division of Adult and Community Health, National Center for Chronic Disease Prevention and Health Promotion (NCCDPHP), 4770 Buford Highway, NE, MS K-47 Atlanta, Georgia 30341, Telephone: (770) 488-8055, E-Mail Address: mmalone@cdc.gov.

Technical assistance for the Jackson State University, Office of Research and Development to establish an epidemiological research institute will be provided by: Mags Malone, Division of Adult and Community Health, National Center for Chronic Disease Prevention and Health Promotion (NCCDPHP), 4770 Buford Highway, NE, MS K-47, Atlanta, Georgia 30341, Telephone: (770) 488-8055, E-Mail Address: mmalone@cdc.gov.

Technical assistance for the Baltimore City Health Department, Maryland, to establish a Center for Chronic Diseases will be provided by: Catherine A. Hutsell, M.P.H., Division of Adult and Community Health, National Center for Chronic Disease Prevention and Health Promotion (NCCDPHP), 4770 Buford Highway, NE, MS K-30, Atlanta, Georgia 30341, Telephone: (770) 488-5438, E-Mail Address: chutsell@cdc.gov.

Technical assistance for the University of Texas, Dallas, for the Southwestern Medical Center, National Multiple Sclerosis Training center will be provided by: David Thurman, Division of Adult and Community Health, National Center for Chronic Disease Prevention and Health Promotion (NCCDPHP), 4770 Buford Highway, NE, MS K-45, Atlanta, Georgia 30341, Telephone: (770) 488-6090, E-Mail Address: dthurman@cdc.gov.

Dated: April 23, 2001.
John L. Williams,
Director, Procurement and Grants Office, Centers for Disease Control and Prevention (CDC).

[FR Doc. 01-10480 Filed 4-26-01; 8:45 am]

BILLING CODE 4163-18-P